DEPARTMENT OF COMMERCE

National Oceanic and Atmospheric Administration

RIN 0648-XN02

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Joint Skate Committee and Advisory Panel, in February, 2009, to consider actions affecting New England fisheries in the exclusive economic zone (EEZ). Recommendations from this group will be brought to the full Council for formal consideration and action, if appropriate.

DATES: This meeting will be held on Thursday, February 19, 2009, at 9 a.m.

ADDRESSES: This meeting will be held at the Holiday Inn, 195 Westgate Drive, Brockton, MA 02301; telephone: (508) 588-6300; fax: (508) 580-4384.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: Depending on decisions made at the February Council meeting on Draft Amendment 3 to the FMP for the Northeast Skate Complex, the Oversight Committee and Advisory Panel will either develop and recommend a final alternative from the Draft Amendment 3 document (available at http://www.nefmc.org/skates/planamen/amend3/Amend3_DSEIS_Sept08.htm), or revise Draft Amendment 3 and develop new or additional alternatives to meet the revised skate Acceptable Biological Catch (ABC/ACL) and Total Allowable Landing (TAL) limits. Other unrelated skate management issues may also be discussed at the chair's discretion, but no formal action will be taken on them.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: January 29, 2009.
Tracey L. Thompson,
Acting Director, Office of Sustainable Fisheries, National Marine Fisheries Service.

[FR Doc. E9-2205 Filed 2-2-09; 8:45 am]

BILLING CODE 3510-22-S